DEPARTMENT OF AGRICULTURE

Foreign Agricultural Service

Trade Adjustment Assistance for Farmers

AGENCY: Foreign Agricultural Service, USDA.

ACTION: Notice.

The Administrator of the Foreign Agricultural Service (FAS) will begin accepting Trade Adjustment Assistance (TAA) for Farmers petitions for Fiscal Year 2011. Petitioners must file the information required by 7 CFR 1580.201(c) between May 21, 2010, and July 16, 2010. They may use form FAS-930 for this purpose.

Petitions may be sent by fax: (202) 720-0876; or by e-mail: tradeadjustment@fas.usda.gov; or by U.S. mail: TAA, Foreign Agricultural Service, Stop 1021, USDA, 1400 Independence Ave., SW., Washington, DC 20250-1021; or by courier delivery: TAA, Foreign Agricultural Service, Suite 400, USDA, 1250 Maryland Ave., SW., Washington, DC 20024. The use of fax or e-mail is preferred. The petition must be received by the close of business July 16, 2010.

SUPPLEMENTARY INFORMATION: The American Recovery and Reinvestment Act of 2009 (Pub. L. 111-5) reauthorized the TAA for Farmers Program as established by Subtitle C of Title I of the Trade Act of 2002 (Pub. L. 107-210), which amended the Trade Act of 1974. The statute authorizes an appropriation of not more than $90 million for each fiscal year 2009 through 2010, and $22.5 million for the period October 1 through December 31, 2010, to carry out the program. The regulations covering the program are found at 7 CFR part 1580.

Under this program, the U.S. Department of Agriculture (USDA) provides technical assistance and cash benefits to eligible producers of raw agricultural commodities and fishermen (jointly referred to as “producers”) when the FAS Administrator determines that increased imports of raw agricultural commodities, aquaculture products, or wild-caught aquatic species (each referred to as “commodity”) have contributed importantly to a greater than 15 percent decrease in the national average price, or quantity of production, or value of production, or cash receipts for the commodity specified in the petition, compared to the average of the three preceding marketing years.

To qualify, a group of producers or its authorized representative must petition the FAS Administrator for trade adjustment assistance. Petitions will be reviewed for completeness and timeliness. Once the petition is completed in accordance with 7 CFR 1580.201, a notice of acceptance will be published in the Federal Register, initiating a review to verify whether or not, for the most recent marketing year and for the commodity produced by the group, increased imports contributed importantly to a greater than 15 percent decrease in the national average price, or quantity of production, or value of production, or cash receipts for the agricultural commodity specified in the petition, compared to the average of the three preceding marketing years. If any one of these conditions is met, the FAS Administrator will certify the group as eligible for trade adjustment assistance and publish a notice of the certification in the Federal Register.

Eligible producers covered by the certification must file individual applications for assistance with USDA's Farm Service Agency within 90 days of the certification.

For further information or assistance in completing Form FAS-930, contact staff of the Trade Adjustment Assistance for Farmers Program by phone: (202) 720-0638, or by e-mail: tradeadjustment@fas.usda.gov. Additional program information can be obtained at the Web site for the TAA for Farmers program. The URL is http://www.fas.usda.gov/itp/taa.

Dated: May 17, 2010.
John D. Brewer,
Administrator, Foreign Agricultural Service.

[FR Doc. 2010-12385 Filed 5-21-10; 8:45 am]

BILLING CODE 3410-10-P